DEPARTMENT OF COMMERCE

National Oceanic and Atmospheric Administration

[I.D. 051105E]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Scallop Oversight Committee in June, 2005 to consider actions affecting New England fisheries in the exclusive economic zone (EEZ). Recommendations from this group will be brought to the full Council for formal consideration and action, if appropriate.

DATES: The meeting will be held on Wednesday, June 1, 2005 at 9 a.m. and on Thursday, June 2, 2005 at 8:30 a.m.

ADDRESSES: The meeting will be held at the Radisson Airport Hotel, 2081 Post Road, Warwick, RI 02886; telephone: (401) 739-3000.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Oversight Committee will receive a preliminary report on the updated scallop stock assessment and an Advisory Panel report on prioritization of management issues for a framework adjustment. The Committee will identify the types of actions that the Council should consider for Framework Adjustment 18 (FW 18), which will set specifications and make management adjustments for the 2006 and 2007 fishing years. In addition, the Committee will discuss whether more immediate action is needed in 2005 to address changes in the resource condition, including those in the Hudson Canyon Area. FW 18 alternatives may include, but are not limited to the following general management measures: triggered adjustments to annual allocations and area closures through Notice Action; General Category fishery management; bag tags and standard bags (landings monitoring and compliance); allocations for vessels with small dredge permits; research proposal review process; research priorities; and fishing year alignment and framework adjustment frequency.

In addition, the Committee may consider the following changes for the controlled access areas: rotation management fishing mortality targets by area; allocations of trips or pounds in controlled access areas; Hudson Canyon Area rotation management area policy; Elephant Trunk Area allocations for 2007; crew limits in controlled access areas; IFQ allocations in controlled access areas; sector allocations (harvest cooperatives or other entities); temporary transferability/stacking of controlled access allocations; improvements in the broken trip exemption program, and seasonal access to minimize bycatch and effects on spawning (Georges Bank access areas and Elephant Trunk Area in 2007). The Committee may also consider setting hard or target total allowable catch limits (TAC) for open fishing areas. Their recommendations will be presented to the Council at the initial FW 18 meeting in June 2005.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 12, 2005.
Tracey L. Thompson,
Acting Director, Office of Sustainable Fisheries, National Marine Fisheries Service.

[FR Doc. E5-2460 Filed 5-16-05; 8:45 am]

BILLING CODE 3510-22-S